DEPARTMENT OF COMMERCE

National Oceanic and Atmospheric Administration

RIN 0648-XD890

Pacific Fishery Management Council; Public Meeting

AGENCY: National Marine Fisheries Service (NMFS), National Oceanic and Atmospheric Administration (NOAA), Commerce.

ACTION: Notice of public meetings.

SUMMARY: The Pacific Fishery Management Council (Pacific Council) will convene a Stock Assessment Review (STAR) Panel meeting to review the Pacific mackerel stock assessment.

DATES: The STAR Panel meeting will be held Monday, April 27 through Wednesday, April 29, 2015. That meeting will begin the first day at 9 a.m. and at 8 a.m. each subsequent day. The meeting will conclude each day at 5 p.m. or when business for the day has been completed.

ADDRESSES: The meetings will be held in the Pacific Conference Room of the NOAA Southwest Fisheries Science Center, 8901 La Jolla Shores Dr., La Jolla, CA 92037-1508.

FOR FURTHER INFORMATION CONTACT: Kerry Griffin, Staff Officer; telephone: (503) 820-2409.

SUPPLEMENTARY INFORMATION: The primary purpose of the meeting is to review a full stock assessment for Pacific mackerel. The review panel will consist of two members of the Council's Scientific and Statistical Committee's Subcommittee on Coastal Pelagic Species, plus two independent experts. The Council will use the 2015 assessment to establish Pacific mackerel fishery management measures and harvest specifications for both the 2015-16 and the 2016-17 fishing years. The Pacific mackerel fishing year begins July 1 and ends the following June 30 each year. Representatives of the Council's CPS Management Team and the CPS Advisory Subpanel will also participate in the review, as advisers.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Mr. Dale Sweetnam, (858) 546-7170, at least 5 days prior to the meeting date.

Dated: April 6, 2015.
Tracey L. Thompson,
Acting Deputy Director, Office of Sustainable Fisheries, National Marine Fisheries Service.

[FR Doc. 2015-08172 Filed 4-9-15; 8:45 am]

BILLING CODE 3510-22-P